DEPARTMENT OF COMMERCE

Foreign-Trade Zones Board

[B-50-2014]

Foreign-Trade Zone 124—Gramercy, Louisiana; Application for Expansion of Subzone 124H; Bollinger Shipyards, Inc.

An application has been submitted to the Foreign-Trade Zones (FTZ) Board by the Port of South Louisiana, grantee of FTZ 124, requesting the expansion of Subzone 124H located at the facilities of Bollinger Shipyards, Inc., in Golden Meadow, Louisiana. The application was submitted pursuant to the provisions of the Foreign-Trade Zones Act, as amended (19 U.S.C. 81a-81u), and the regulations of the FTZ Board (15 CFR part 400). It was formally docketed on July 17, 2014.

The grantee proposes to expand Subzone 124H-Site 10 to include an additional 46.212 acres. The additional acreage is located at 236 A. T. Gisclair Road in Golden Meadow. No changes to the subzone's existing production authority have been requested at this time.

In accordance with the FTZ Board's regulations, Camille Evans of the FTZ Staff is designated examiner to review the application and make recommendations to the FTZ Board.

Public comment is invited from interested parties. Submissions shall be addressed to the FTZ Board's Executive Secretary at the address below. The closing period for their receipt is September 3, 2014. Rebuttal comments in response to material submitted during the foregoing period may be submitted during the subsequent 15-day period to September 18, 2014.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Camille Evans at Camille.Evans@trade.gov or (202) 482-2350.

Dated: July 17, 2014.
Andrew McGilvray,
Executive Secretary.

[FR Doc. 2014-17472 Filed 7-24-14; 8:45 am]

BILLING CODE P